DEPARTMENT OF TRANSPORTATION

Federal Aviation Administration

14 CFR Part 39

[Docket No. FAA-2021-0574; Project Identifier 2019-SW-073-AD]

RIN 2120-AA64

Airworthiness Directives; Hélicoptères Guimbal Helicopters

AGENCY: Federal Aviation Administration (FAA), DOT.

ACTION: Notice of proposed rulemaking (NPRM).

SUMMARY: The FAA proposes to adopt a new airworthiness directive (AD) for certain Hélicoptères Guimbal Model CABRI G2 helicopters. This proposed AD was prompted by a report that, during scheduled maintenance on two helicopters, cracks were found on a certain main rotor (MR) non-rotating scissor link. This proposed AD would require replacing an affected MR non-rotating scissor link with a serviceable part. The FAA is proposing this AD to address the unsafe condition on these products.

DATES: The FAA must receive comments on this proposed AD by August 23, 2021.

ADDRESSES: You may send comments, using the procedures found in 14 CFR 11.43 and 11.45, by any of the following methods:

• Federal eRulemaking Portal: Go to https://www.regulations.gov. Follow the instructions for submitting comments.

• Fax: (202) 493-2251.

• Mail: U.S. Department of Transportation, Docket Operations, M-30, West Building Ground Floor, Room W12-140, 1200 New Jersey Avenue SE, Washington, DC 20590.

• Hand Delivery: Deliver to Mail address above between 9 a.m. and 5 p.m., Monday through Friday, except Federal holidays.

For service information identified in this NPRM, contact Hélicoptères Guimbal, 1070, rue du Lieutenant Parayre, Aérodrome d'Aix-en-Provence, 13290 Les Milles, France; telephone 33-04-42-39-10-88; email support@guimbal.com; or at https://www.guimbal.com. You may view this service information at the FAA, Office of the Regional Counsel, Southwest Region, 10101 Hillwood Pkwy., Room 6N-321, Fort Worth, TX 76177. For information on the availability of this material at the FAA, call (817) 222-5110. Service information that is incorporated by reference is also available at https://www.regulations.gov by searching for and locating Docket No. FAA-2021-0574.

Examining the AD Docket

You may examine the AD docket at https://www.regulations.gov by searching for and locating Docket No. FAA-2021-0574; or in person at Docket Operations between 9 a.m. and 5 p.m., Monday through Friday, except Federal holidays. The AD docket contains this NPRM, the European Union Aviation Safety Agency (EASA) AD, any comments received, and other information. The street address for Docket Operations is listed above.

FOR FURTHER INFORMATION CONTACT: Darren Gassetto, Aerospace Engineer, COS Program Management Section, Operational Safety Branch, Compliance & Airworthiness Division, FAA, 1600 Stewart Ave., Suite 410, Westbury, NY 11590; telephone (516) 228-7323; email Darren.Gassetto@faa.gov.

SUPPLEMENTARY INFORMATION:

Comments Invited

The FAA invites you to send any written data, views, or arguments about this proposal. Send your comments to an address listed under ADDRESSES. Include “Docket No. FAA-2021-0574; Project Identifier 2019-SW-073-AD” at the beginning of your comments. The most helpful comments reference a specific portion of the proposal, explain the reason for any recommended change, and include supporting data. The FAA will consider all comments received by the closing date and may amend this proposal because of those comments.

Except for Confidential Business Information (CBI) as described in the following paragraph, and other information as described in 14 CFR 11.35, the FAA will post all comments received, without change, to https://www.regulations.gov, including any personal information you provide. The agency will also post a report summarizing each substantive verbal contact received about this NPRM.

Confidential Business Information

CBI is commercial or financial information that is both customarily and actually treated as private by its owner. Under the Freedom of Information Act (FOIA) (5 U.S.C. 552), CBI is exempt from public disclosure. If your comments responsive to this NPRM contain commercial or financial information that is customarily treated as private, that you actually treat as private, and that is relevant or responsive to this NPRM, it is important that you clearly designate the submitted comments as CBI. Please mark each page of your submission containing CBI as “PROPIN.” The FAA will treat such marked submissions as confidential under the FOIA, and they will not be placed in the public docket of this AD. Submissions containing CBI should be sent to Darren Gassetto, Aerospace Engineer, COS Program Management Section, Operational Safety Branch, Compliance & Airworthiness Division, FAA, 1600 Stewart Ave., Suite 410, Westbury, NY 11590; telephone (516) 228-7323; email Darren.Gassetto@faa.gov. Any commentary that the FAA receives which is not specifically designated as CBI will be placed in the public docket for this rulemaking.

Background

EASA, which is the Technical Agent for the Member States of the European Union, has issued EASA AD 2019-0186, dated July 30, 2019 (EASA AD 2019-0186), to correct an unsafe condition for Hélicoptères Guimbal Model CABRI G2 helicopters, all manufacturer serial numbers. EASA advises that, during scheduled maintenance on two helicopters, cracks were found on the MR non-rotating scissor link, part number (P/N) G41-10-200. The suspected root cause for the cracking is corrosion due to stress induced by the mounting of the metal bushings inside the lug hole. To address this issue the manufacturer modified the design of the MR non-rotating scissor link to reinforce the lugs and replace the metal bushings with plastic bushings. Cracking of a MR non-rotating scissor link, if not addressed, could result in failure of that scissor link, resulting in reduced control of the helicopter.

Accordingly, EASA AD 2019-0186 requires replacement of affected MR non-rotating scissor links with serviceable parts.

FAA's Determination

These helicopters have been approved by EASA and are approved for operation in the United States. Pursuant to the FAA's bilateral agreement with the European Union, EASA has notified the FAA about the unsafe condition described in its AD. The FAA is issuing this AD after evaluating all known relevant information and determining that the unsafe condition described previously is likely to exist or develop on other helicopters of the same type design.

Related Service Information Under 1 CFR Part 51

The FAA reviewed Guimbal Service Bulletin SB 15-015, Revision C, dated August 27, 2019. This service information specifies procedures for, among other actions, modifying the helicopter by replacing the MR non-rotating scissor link, P/N G41-10-200, with a serviceable part, P/N G41-10-201 (by installing scissor link assembly, P/N G41-12-100, which includes MR non-rotating scissor link, P/N G41-10-201) and torqueing the bolts. This service information is reasonably available because the interested parties have access to it through their normal course of business or by the means identified in the ADDRESSES section.

Other Related Service Information

The FAA also reviewed Guimbal Service Bulletin SB 15-015, Revision A, dated July 20, 2015 (SB 15-015, Revision A); and SB 15-015, Revision B, dated July 12, 2019 (SB 15-015, Revision B). SB 15-015, Revision A, describes procedures for replacing a MR non-rotating scissor link, P/N G41-10-200, with P/N G41-12-100, which has a new, improved design. Service Bulletin SB 15-015, Revision B, describes the same procedures as SB 15-015, Revision A, and includes a revised compliance time, an updated Situation section, and added an action.

Proposed AD Requirements in This NPRM

This proposed AD would require accomplishing the actions specified in the service information already described.

Costs of Compliance

The FAA estimates that this AD, if adopted as proposed, would affect 32 helicopters of U.S. registry. The FAA estimates the following costs to comply with this proposed AD:

Estimated Costs for Required Actions
Action | Labor cost | Parts cost | Cost per product | Cost on U.S. operators
Replacement | 1 work-hour × $85 per hour = $85 | $323 | $408 | $13,056

Authority for This Rulemaking

Title 49 of the United States Code specifies the FAA's authority to issue rules on aviation safety. Subtitle I, section 106, describes the authority of the FAA Administrator. Subtitle VII: Aviation Programs, describes in more detail the scope of the Agency's authority.

The FAA is issuing this rulemaking under the authority described in Subtitle VII, Part A, Subpart III, Section 44701: General requirements. Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

This FAA determined that this proposed AD would not have federalism implications under Executive Order 13132. This proposed AD would not have a substantial direct effect on the States, on the relationship between the national Government and the States, or on the distribution of power and responsibilities among the various levels of government.

For the reasons discussed, I certify that this proposed regulation:

(1) Is not a “significant regulatory action” under Executive Order 12866, and

(2) Would not affect intrastate aviation in Alaska.

(3) Would not have a significant economic impact, positive or negative, on a substantial number of small entities under the criteria of the Regulatory Flexibility Act.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive:

Hélicoptères Guimbal: Docket No. FAA-2021-0574; Project Identifier 2019-SW-073-AD.

(a) Comments Due Date

The FAA must receive comments on this airworthiness directive (AD) by August 23, 2021.

(b) Affected ADs

None.

(c) Applicability

This AD applies to Hélicoptères Guimbal Model CABRI G2 helicopters, certificated in any category, with main rotor (MR) non-rotating scissor links, part number (P/N) G41-10-200 installed.

(d) Subject

Joint Aircraft Service Component (JASC) Code: 6700, Rotorcraft Flight Control.

(e) Unsafe Condition

This AD was prompted by a report that during scheduled maintenance on two helicopters, cracks were found on the MR non-rotating scissor link with part number (P/N) G41-10-200. The FAA is issuing this AD to address cracking of a MR non-rotating scissor link. Cracking of a MR non-rotating scissor link, if not addressed, could result in failure of that scissor link, resulting in reduced control of the helicopter.

(f) Compliance

Comply with this AD within the compliance times specified, unless already done.

(g) Required Actions

(1) Within 50 hours time-in-service or 2 months after the effective date of this AD, whichever occurs first, modify the helicopter by replacing the MR non-rotating scissor link, P/N G41-10-200, with a serviceable scissor link assembly, P/N G41-12-100, in accordance with the Required Actions, IPC 4.1-2 (a) through (d) inclusive, of Guimbal Service Bulletin SB 15-015, Revision C, dated August 27, 2019.

(2) As of the effective date of this AD, do not install a MR non-rotating scissor link, P/N G41-10-200, on any helicopter.

(h) Credit for Previous Actions

This paragraph provides credit for actions required by paragraph (g)(1) of this AD, if those actions were performed before the effective date of this AD using the service information specified in paragraph (h)(1) or (2) of this AD.

(1) Guimbal Service Bulletin SB 15-015, Revision A, dated July 20, 2015.

(2) Guimbal Service Bulletin SB 15-015, Revision B, dated July 12, 2019.

(i) Special Flight Permits

Special flight permits, as described in 14 CFR 21.197 and 21.199, are prohibited.

(j) Alternative Methods of Compliance (AMOCs)

(1) The Manager, International Validation Branch, FAA, has the authority to approve AMOCs for this AD, if requested using the procedures found in 14 CFR 39.19. In accordance with 14 CFR 39.19, send your request to your principal inspector or local Flight Standards District Office, as appropriate. If sending information directly to the manager of the International Validation Branch, send it to the attention of the person identified in paragraph (k)(1) of this AD. Information may be emailed to: 9-AVS-AIR-730-AMOC@faa.gov.

(2) Before using any approved AMOC, notify your appropriate principal inspector, or lacking a principal inspector, the manager of the local flight standards district office/certificate holding district office.

(k) Related Information

(1) For more information about this AD, contact Darren Gassetto, Aerospace Engineer, COS Program Management Section, Operational Safety Branch, Compliance & Airworthiness Division, FAA, 1600 Stewart Ave., Suite 410, Westbury, NY 11590; telephone (516) 228-7323; email Darren.Gassetto@faa.gov.

(2) For service information identified in this AD, contact Hélicoptères Guimbal, 1070, rue du Lieutenant Parayre, Aérodrome d'Aix-en-Provence, 13290 Les Milles, France; telephone 33-04-42-39-10-88; email support@guimbal.com; or at https://www.guimbal.com. You may view this referenced service information at the FAA, Office of the Regional Counsel, Southwest Region, 10101 Hillwood Pkwy., Room 6N-321, Fort Worth, TX 76177. For information on the availability of this material at the FAA, call (817) 222-5110.

(3) The subject of this AD is addressed in European Union Aviation Safety Agency (EASA) AD 2019-0186, dated July 30, 2019. You may view the EASA AD at https://www.regulations.gov in Docket No. FAA-2021-0574.

Issued on July 14, 2021.
Lance T. Gant,
Director, Compliance & Airworthiness Division, Aircraft Certification Service.

[FR Doc. 2021-15475 Filed 7-22-21; 8:45 am]

BILLING CODE 4910-13-P